DEPARTMENT OF TRANSPORTATION

Federal Aviation Administration

14 CFR Part 39

[Docket No. FAA-2015-3783; Directorate Identifier 2015-SW-027-AD; Amendment 39-18342; AD 2015-25-04]

RIN 2120-AA64

Airworthiness Directives; Agusta S.p.A. Helicopters

AGENCY: Federal Aviation Administration (FAA), Department of Transportation (DOT).

ACTION: Final rule; request for comments.

SUMMARY: We are adopting a new airworthiness directive (AD) for Agusta S.p.A. (Agusta) Model A109A and A109A II helicopters. This AD requires inspecting the slider assembly pitch control (slider) for play and replacing the slider if the play exceeds certain limits. This AD is prompted by a report of excessive slider play and wear that was detected during a scheduled inspection of a Model A109A II helicopter. These actions are intended to detect and prevent excessive wear and play on a slider, which could lead to loss of tail rotor pitch control and consequently loss of helicopter control.

DATES: This AD becomes effective December 24, 2015.

We must receive comments on this AD by February 8, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-3783; or in person at the Docket Operations Office between 9 a.m. and 5 p.m., Monday through Friday, except Federal holidays. The AD docket contains this AD, the European Aviation Safety Agency (EASA) AD, the economic evaluation, any comments received, and other information. The street address for the Docket Operations Office (telephone 800-647-5527) is in the ADDRESSES section. Comments will be available in the AD docket shortly after receipt.

For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, Room 6N-321, 10101 Hillwood Pkwy, Fort Worth, TX 76177.

FOR FURTHER INFORMATION CONTACT: Martin R. Crane, Aviation Safety Engineer, Safety Management Group, Rotorcraft Directorate, FAA, 10101 Hillwood Pkwy, Fort Worth, TX 76177; telephone (817) 222-5110; email martin.r.crane@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued EASA AD No. 2015-0097, dated June 1, 2015, to correct an unsafe condition for Agusta Model A109A and A109A II helicopters. EASA advises that during a scheduled 100-flight-hour inspection on a Model A109A II helicopter, unusual play was detected on a part number (P/N) 109-0130-11-7 slider. Further investigation revealed excessive wear of the slider broaching at the point of contact with the tail rotor shaft. However, the cause of the excessive play and wear has not been determined.

This condition, if not detected and corrected, could lead to reduced control of the helicopter, EASA advises. EASA consequently requires repetitive inspections of slider P/N 109-0130-11-7 more frequently than those performed at the 100-flight-hour inspection and corrective actions depending on the findings. EASA advises that its AD is an interim measure and further AD action may follow.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information

We reviewed AgustaWestland Bollettino Tecnico No. 109-149, dated May 29, 2015, for Model A109A and A109A II helicopters. The bulletin states that during a 100-flight-hour inspection of a Model A109A II helicopter, “anomalous” play was found on a P/N 109-0130-11-7 slider. After the slider was removed and inspected, extended, unusual wear of the broaching in the point of contact with the tail rotor shaft was found. Agusta states that the investigation is ongoing, but as a precautionary measure it is reducing the slider inspection intervals from 100 flight hours to 25 flight hours.

AD Requirements

This AD requires, within 25 hours time-in-service (TIS) and thereafter at intervals not to exceed 25 hours TIS, inspecting the slider for play. If there is any play that exceeds 2.3 millimeters (0.09 inch), this AD requires replacing the slider with an airworthy slider before further flight.

Interim Action

We consider this AD to be an interim action. The design approval holder has not determined the cause of the unsafe condition identified in this AD. If a cause is determined and actions developed to address the cause, we might consider additional rulemaking.

Costs of Compliance

We estimate that this AD will affect 36 helicopters of U.S. Registry and that labor costs average $85 a work-hour. Based on these estimates, we expect the following costs:

• Inspecting the slider for play requires 1 work-hour for a labor cost of $85 per helicopter and $3060 for the U.S. fleet.

• Replacing the slider requires 10 work-hours and $4068 in parts for a total cost of $4918 per helicopter.

According to Agusta's service information, some of the costs of this AD may be covered under warranty, thereby reducing the cost impact on affected individuals. We do not control warranty coverage by Agusta. Accordingly, we have included all costs in our cost estimate.

FAA's Justification and Determination of the Effective Date

Providing an opportunity for public comments prior to adopting these AD requirements would delay implementing the safety actions needed to correct this known unsafe condition. Therefore, we find that the risk to the flying public justifies waiving notice and comment prior to the adoption of this rule because the unsafe condition can adversely affect control of the helicopter and the required corrective actions must be accomplished within 25 hours TIS. These helicopters have a variety of uses, including search-and-rescue and medical flights, and are expected to accumulate 25 hours TIS within a few weeks.

Since an unsafe condition exists that requires the immediate adoption of this AD, we determined that notice and opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-25-04 Agusta S.p.A.: Amendment 39-18342; Docket No. FAA-2015-3783; Directorate Identifier 2015-SW-027-AD.

(a) Applicability

This AD applies to Agusta S.p.A. (Agusta) Model A109A and A109A II helicopters with a slider assembly pitch control (slider) part number 109-0130-11-7 installed, certificated in any category.

(b) Unsafe Condition

This AD defines the unsafe condition as excessive wear and play on a slider. This condition could result in loss of tail rotor pitch control and consequently loss of helicopter control.

(c) Effective Date

This AD becomes effective December 24, 2015.

(d) Compliance

You are responsible for performing each action required by this AD within the specified compliance time unless it has already been accomplished prior to that time.

(e) Required Actions

Within 25 hours time-in-service (TIS) and thereafter at intervals not to exceed 25 hours TIS, inspect the slider for play. If there is play greater than 2.3 millimeters (0.09 inch), replace the slider with an airworthy slider before further flight.

(f) Alternative Methods of Compliance (AMOCs)

(1) The Manager, Safety Management Group, FAA, may approve AMOCs for this AD. Send your proposal to: Martin R. Crane, Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) AgustaWestland Bollettino Tecnico No. 109-149, dated May 29, 2015, which is not incorporated by reference, contains additional information about the subject of this AD. For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review a copy of the service information at the FAA, Office of the Regional Counsel, Southwest Region, Room 6N-321, 10101 Hillwood Pkwy, Fort Worth, TX 76177.

(2) The subject of this AD is addressed in European Aviation Safety Agency (EASA) AD No. 2015-0097, dated June 1, 2015. You may view the EASA AD on the Internet at http://www.regulations.gov by searching for and locating it in Docket No. FAA-2015-3783.

(h) Subject

Joint Aircraft Service Component (JASC) Code: 6720, Tail Rotor Control System.

Issued in Fort Worth, Texas, on December 2, 2015.
James A. Grigg,
Acting Manager, Rotorcraft Directorate, Aircraft Certification Service.

[FR Doc. 2015-30973 Filed 12-8-15; 8:45 am]

BILLING CODE 4910-13-P